DEPARTMENT OF HOMELAND SECURITY

[Docket No. CISA-2024-0012]

Agency Information Collection Activities: Infrastructure Visualization Platform (IVP) Pre-Collection Questionnaire

AGENCY: Cybersecurity and Infrastructure Security Agency (CISA), Department of Homeland Security (DHS).

ACTION: 30-Day notice and request for comments; new information collection request, 1670-NEW.

SUMMARY: The Infrastructure Security Division (ISD) within Cybersecurity and Infrastructure Security Agency (CISA) will submit the following Information Collection Request (ICR) to the Office of Management and Budget (OMB) for review and clearance in accordance with the Paperwork Reduction Act of 1995. CISA previously published this information collection request (ICR) in the Federal Register on May 21, 2024 for a 60-day public comment period. 0 comments were received by CISA. The purpose of this notice is to allow an additional 30 days for public comments.

DATES: Comments are encouraged and will be accepted until September 29, 2025.

ADDRESSES: Written comments and recommendations for the proposed information collection should be sent within 30 days of publication of this notice to www.reginfo.gov/public/do/pramain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: Jonathan Moaikel; 202-251-5276; jonathan.moaikel@mail.cisa.dhs.gov.

SUPPLEMENTARY INFORMATION: CISA's ISD supports the homeland security mission of critical infrastructure security. As part of this mission, CISA Protective Security Advisors (PSAs) conduct various critical infrastructure security assessments for various stakeholders including facility owners and operators; federal, state, and local law enforcement officials; emergency response personnel; and others.

One type of assessment PSAs can perform is an Infrastructure Visualization Platform (IVP). IVPs integrate high-resolution, interactive visual data as well as additional assessment information. For a PSA to conduct an assessment, each stakeholder must complete an IVP Pre-Collection Questionnaire. The questionnaire requests information such as the purpose of the IVP assessment being requested, the security point of contact the team will be meeting with when they arrive at the facility, who will be escorting the team as they tour the facility, special considerations the collection team need to plan for prior to arriving at the facility, and priority areas know as Areas of Emphasis that the team should be focused on while conducting the IVP assessment collection. When the form is completed and submitted, the IVP team can better plan for the assessment by reviewing locations designated as Areas of Emphasis (AOEs) to ensure those areas receive an assessment, to know who appropriate points of contact are (stakeholder requesting and escort who will be with the team during the collect), and to address special considerations prior to showing up for the collect.

Analysis

Agency: Cybersecurity and Infrastructure Security Agency (CISA), Department of Homeland Security (DHS).

Title of Collection: Infrastructure Visualization Platform (IVP) Pre-Collection Questionnaire.

OMB Control Number: 1670-NEW.

Frequency: Annually.

Affected Public: State, local, Tribal, Territorial Governments and Private Sector Individuals.

Number of Respondents: 120.

Estimated Time per Respondent: 30 minutes.

Total Burden Hours: 60 hours.

Annualized Respondent Cost: $2,527.00.

Total Annualized Respondent Out-of-Pocket Cost: $0.

Total Annualized Government Cost: $2,576.00.

Robert J. Costello,
Chief Information Officer, Department of Homeland Security, Cybersecurity and Infrastructure Security Agency.

[FR Doc. 2025-16489 Filed 8-27-25; 8:45 am]

BILLING CODE 9111-LF-P